INTERNATIONAL TRADE COMMISSION

Proposed Addendum to Investigation No. 1205-6; Harmonized Tariff Schedule of the United States

AGENCY: United States International Trade Commission.

ACTION: Request for comments.

SUMMARY: The Commission requests comments with respect to the proposed modifications set forth at the end of this notice. The Commission is investigating the tariff treatment of certain products that appear to be subject to higher tariffs as a result of modifications recommended in investigation No. 1205-6 and implemented pursuant to Presidential Proclamation 8097. In addition, U.S. Customs and Border Protection (Customs) has requested certain changes in the Harmonized Tariff Schedule of the United States (HTS). Recommendations from this investigation will be included in an addendum to the original investigation report.

DATES:

June 29, 2007: Initial deadline for filing written submissions and comments.

July 6, 2007: Extended deadline for filing written submissions and comments.

August 20, 2007: Transmittal of Commission report to the United States Trade Representative.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: David Beck, Director, Office of Tariff Affairs & Trade Agreements (O/TATA) (202 205-2603 or david.beck@usitc.gov); or Fred Schottman, Nomenclature Analyst, O/TATA, (202 205-2077 or fred.schottman@usitc.gov), U.S. International Trade Commission, Washington, DC 20436. The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission issued an earlier version of this notice on May 31, 2007. The notice requested that persons with an interest in the matter file any written submissions by June 29, 2007. However, due to a technical difficulty, the notice was not published in the Federal Register. In view of the delay, the Commission has extended to the close of business, July 6, 2007, the due date for filing written submissions. Also, the Commission has corrected three errors in the discussion in subsection (c) regarding Chapter 82.

Section 1205 of the Omnibus Trade and Competitiveness Act of 1988 (19 U.S.C. 3005) directs the Commission to periodically review the HTS and make recommendations on modifications to the HTS. The changes may be for purposes including: (a) Conformity to modifications made to the Harmonized System Convention (Convention) of the World Customs Organization (WCO), (b) promotion of uniform application of the Convention and, (c) alleviation of unnecessary administrative burdens. The recommended changes should ensure “substantial rate neutrality'.

In April 2006, the Commission issued a report entitled Proposed Modifications to the Harmonized Tariff Schedule of the United States, investigation No. 1205-6, Publication No. 3851. The modifications recommended in the report were put into effect on February 3, 2007, pursuant to Presidential Proclamation 8097, which was published in the Federal Register on January 4, 2007. Annexes to Proclamation 8097 were published in USITC Publication No. 3898 (December 2006) and can be found on the USITC Web site (http://www.usitc.gov).

Written Submissions: No public hearing is planned in connection with these proposed modifications. However, parties are invited to submit written statements concerning the proposed modifications. All written submissions should be addressed to the Secretary and should be filed not later than 5:15 p.m., July 6, 2007. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the CBI be clearly identified by means of brackets. All written submissions, except for CBI, will be made available for inspection by interested parties.

The Commission may include some or all of the CBI it receives in the final report it sends to the President. However, the Commission will not publish CBI in the public version of the final report in a manner that could reveal the operation of the firm supplying the information. The public version of the final report will be made available to the public on the Commission Web site.

Issued: June 12, 2007.
By order of the Commission.
Marilyn R. Abbott,
Secretary to the Commission.

BILLING CODE 7020-02-P

[FR Doc. 07-2957 Filed 6-14-07; 8:45 am]

BILLING CODE 7020-02-C